DEPARTMENT OF TRANSPORTATION

Pipeline and Hazardous Materials Safety Administration

[Docket No. PHMSA-2013-0119]

Pipeline Safety: Public Workshop on Integrity Verification Process, Comment Extension

AGENCY: Pipeline and Hazardous Materials Safety Administration, DOT.

ACTION: Notice of extension of comment period.

SUMMARY: On May 28, 2013, PHMSA published in the Federal Register a notice announcing a public workshop on “Integrity Verification Process” which took place on August 7, 2013. The notice also sought comments on the proposed “Integrity Verification Process.” In response to the comments received, PHMSA has made some revisions to the proposed “Integrity Verification Process” flowchart. PHMSA is using this notice to announce the revised “Integrity Verification Process” flowchart and extend the comment period from September 9, 2013, to October 7, 2013.

DATES: The closing date for filing comments is extended from September 9, 2013, to October 7, 2013.

COMMENTS: Comments should reference Docket No. PHMSA-2013-0119. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9 a.m. and 5 p.m., Monday through Friday, except Federal holidays.

Instructions: Identify the docket number at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement heading below for additional information.

Privacy Act Statement: Anyone may search the electronic form of all comments received for any of our dockets. You may review DOT's complete Privacy Act Statement in the Federal Register published April 11, 2000, (65 FR 19477).

FOR FURTHER INFORMATION CONTACT: Cameron Satterthwaite, Office of Pipeline Safety, at 202-366-1319 or by email at cameron.satterthwaite@dot.gov, regarding the subject matter of this notice.

SUPPLEMENTARY INFORMATION: On May 28, 2013, PHMSA published in the Federal Register a notice (78 FR 32010) to solicit comments and announce a public workshop regarding an “Integrity Verification Process.” The public workshop was held on August 7, 2013. At the workshop, PHMSA, the National Association of State Pipeline Safety Representatives and various other stakeholders presented information regarding the “Integrity Verification Process” that will help address several mandates set forth in Section 23, Maximum Allowable Operating Pressure, of the Pipeline Safety, Regulatory Certainty, and Job Creation Act of 2011. Presentations, archived webcast, charts, and other pertinent information have been made available online at http://www.phmsa.dot.gov/pipeline.

In response to stakeholder feedback, PHMSA has made some revisions to the proposed “Integrity Verification Process.” The revised “Integrity Verification Process” is available in the docket at www.regulations.gov, Docket Number “PHMSA-2013-0119”. In an effort to provide the public with adequate time to comment on the proposed revision, PHMSA is extending the comment period from September 9, 2013, to October 7, 2013.

Issued in Washington, DC, on September 6, 2013, under delegated authority in 49 CFR 1.97.
Jeffrey D. Wiese,
Associate Administrator for Pipeline Safety.

[FR Doc. 2013-22161 Filed 9-11-13; 8:45 am]

BILLING CODE 4910-60-P